DEPARTMENT OF THE INTERIOR

National Park Service

[NPS-WASO-NAGPRA-NPS0037126; PPWOCRADN0-PCU00RP14.R50000]

Notice of Inventory Completion: Haffenreffer Museum of Anthropology, Brown University, Bristol, RI

AGENCY: National Park Service, Interior.

ACTION: Notice.

SUMMARY: In accordance with the Native American Graves Protection and Repatriation Act (NAGPRA), Haffenreffer Museum of Anthropology, Brown University, (Haffenreffer Museum) has completed an inventory of human remains and associated funerary objects and has determined that there is a cultural affiliation between the human remains and associated funerary objects and Indian Tribes or Native Hawaiian organizations in this notice. The human remains and associated funerary objects were removed from Brevard, Hillsborough, and Palm Beach Counties, FL.

DATES: Repatriation of the human remains and associated funerary objects in this notice may occur on or after January 22, 2024.

ADDRESSES: Thierry Gentis, Brown University, Haffenreffer Museum of Anthropology, 300 Tower Street, Bristol, RI 02889, telephone (401) 863-5702, email thierry_gentis@brown.edu.

SUPPLEMENTARY INFORMATION: This notice is published as part of the National Park Service's administrative responsibilities under NAGPRA. The determinations in this notice are the sole responsibility of the Haffenreffer Museum. The National Park Service is not responsible for the determinations in this notice. Additional information on the determinations in this notice, including the results of consultation, can be found in the inventory or related records held by the Haffenreffer Museum.

Description

On an unknown date, human remains representing, at minimum, two individuals were removed from a mound near Oak Lodge, Brevard County, FL. On an unknown date, the individuals were gifted to Brown University and later transferred to the Haffenreffer Museum in the 1950s. No associated funerary objects are present.

On an unknown date, human remains representing, at minimum, two individuals were removed from Lake Thonotosassa, Hillsborough County, FL. On an unknown date, the individuals were acquired by the Haffenreffer Museum. The two associated funerary objects are one lot of flint flakes and one shell.

On an unknown date, human remains representing, at minimum, one individual were removed from Lake Worth, Palm Beach County, FL. In 1930, the individual was gifted by D. Stewart, Jr. to Brown University's Department of Geology and later transferred to the Haffenreffer Museum in 1957. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographic information.

Determinations

Pursuant to NAGPRA and it's implementing regulations, and after consultation with the appropriate Indian Tribes and Native Hawaiian organizations, the Haffenreffer Museum has determined that:

• The human remains described in this notice represent the physical remains of five individuals of Native American ancestry.

• The two objects described in this notice are reasonably believed to have been placed with or near individual human remains at the time of death or later as part of the death rite or ceremony.

• There is a relationship of shared group identity that can be reasonably traced between the human remains and associated funerary objects described in this notice and the Miccosukee Tribe of Indians; Seminole Tribe of Florida; and The Seminole Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 22, 2024. If competing requests for repatriation are received, the Haffenreffer Museum must determine the most appropriate requestor prior to repatriation. Requests for joint repatriation of the human remains and associated funerary objects are considered a single request and not competing requests. The Haffenreffer Museum is responsible for sending a copy of this notice to the Indian Tribes identified in this notice.

Authority: Native American Graves Protection and Repatriation Act, 25 U.S.C. 3003, and the implementing regulations, 43 CFR 10.9, 10.10, and 10.14.

Dated: December 13, 2023.
Melanie O'Brien,
Manager, National NAGPRA Program.

[FR Doc. 2023-28181 Filed 12-21-23; 8:45 am]

BILLING CODE 4312-52-P